DEPARTMENT OF COMMERCE

International Trade Administration

[A-570-856]

Synthetic Indigo From the People's Republic of China: Notice of Extension of Time Limit for Antidumping Duty Administrative Review

AGENCY: Import Administration, International Trade Administration, United States Department of Commerce.

EFFECTIVE DATE: July 10, 2003.

FOR FURTHER INFORMATION CONTACT: David J. Goldberger or Margarita Panayi at (202) 482-4136 or (202) 482-0049, respectively, Office of AD/CVD Enforcement, Import Administration, International Trade Administration, U.S. Department of Commerce, 14th Street and Constitution Avenue, NW, Washington, DC 20230.

Postponement of Final Results of Administrative Review

On March 10, 2003, the Department of Commerce (“the Department”) published the preliminary results of the administrative review of the antidumping duty order on synthetic indigo from the People's Republic of China with respect to Liyang Skyblue Chemical Co., Ltd. The current deadline for the final results in this review is July 8, 2003. In accordance with section 751(a)(3)(A) of the Tariff Act of 1930 (“the Act”), as amended, the Department finds that it is not practicable to complete this administrative review within the original time frame due to complex surrogate value issues. Thus, the Department is extending the time limit for completion of the final results by 60 days. The final results will now be due by September 8, 2003.

Dated: July 3, 2003.
Jeffrey May,
Deputy Assistant Secretary for Import Administration.

[FR Doc. 03-17514 Filed 7-9-03; 8:45 am]

BILLING CODE 3510-DS-P